DEPARTMENT OF ENERGY

Federal Energy Regulatory Commission

Combined Notice of Filings #1

Take notice that the Commission received the following electric corporate filings:

Docket Numbers: EC13-135-000

Applicants: Direct Energy Business, LLC, Hess Corporation, Hess Energy Marketing, LLC, Hess Small Business Services LLC

Description: Application for Authorization under Section 203 of the FPA of Direct Energy Business, LLC, et al.

Filed Date: 8/15/13

Accession Number: 20130815-5167

Comments Due: 5 p.m. ET 9/5/13

Docket Numbers: EC13-136-000

Applicants: CPV Sentinel, LLC, EFS Sentinel Holdings, LLC, Aircraft Services Corporation, Voltage Finance LLC

Description: Joint Application for Authorization of Disposition of Facilities under Section 203 of the Federal Power Act and Request for Confidential Treatment, Expedited Consideration and Waivers of CPV Sentinel, LLC, et al.

Filed Date: 8/15/13

Accession Number: 20130815-5170

Comments Due: 5 p.m. ET 9/5/13

Take notice that the Commission received the following exempt wholesale generator filings:

Docket Numbers: EG13-52-000

Applicants: Goal Line L.P.

Description: Self-Certification of EWG Status of Goal Line L.P.

Filed Date: 8/16/13

Accession Number: 20130816-5033

Comments Due: 5 p.m. ET 9/6/13

Take notice that the Commission received the following electric rate filings:

Docket Numbers: ER13-764-003

Applicants: CED White River Solar, LLC

Description: CED White River Solar, LLC submits Revised Market Based Rate Tariff to be effective 10/16/2013.

Filed Date: 8/16/13

Accession Number: 20130816-5069

Comments Due: 5 p.m. ET 9/6/13

Docket Numbers: ER13-1210-000

Applicants: Westar Generating, Inc.

Description: Supplemental Filing, Purchase Power Agreement with Westar Energy, Inc. to be effective N/A.

Filed Date: 8/16/13

Accession Number: 20130816-5066

Comments Due: 5 p.m. ET 9/6/13

Docket Numbers: ER13-2164-000

Applicants: Southwest Power Pool, Inc.

Description: AG Study Backlog Clearing Process Tariff Revisions to be effective 10/12/2013.

Filed Date: 8/15/13

Accession Number: 20130815-5136

Comments Due: 5 p.m. ET 9/5/13

Docket Numbers: ER13-2165-000

Applicants: PacifiCorp

Description: Salt River Project MOU to be effective 10/15/2013.

Filed Date: 8/15/13

Accession Number: 20130815-5148

Comments Due: 5 p.m. ET 9/5/13

Docket Numbers: ER13-2166-000

Applicants: PJM Interconnection, L.L.C.

Description: Original Service Agreement No. 3610; Queue No. V3-017/X4-006 to be effective 7/16/2013.

Filed Date: 8/15/13

Accession Number: 20130815-5163

Comments Due: 5 p.m. ET 9/5/13

Docket Numbers: ER13-2167-000

Applicants: PJM Interconnection, L.L.C.

Description: Queue No. W2-014; First Revised Service Agreement No. 2797 to be effective 7/17/2013.

Filed Date: 8/15/13

Accession Number: 20130815-5164

Comments Due: 5 p.m. ET 9/5/13

Docket Numbers: ER13-2168-000

Applicants: Southern California Edison Company

Description: Notice of Cancellation of Interim Black Start Agreement (RS No. 405) of Southern California Edison Company.

Filed Date: 8/16/13

Accession Number: 20130816-5022

Comments Due: 5 p.m. ET 9/6/13

Docket Numbers: ER13-2169-000

Applicants: Goal Line L.P.

Description: Goal Line L.P. Initial Market-Based Rate Tariff to be effective 10/15/2013.

Filed Date: 8/16/13

Accession Number: 20130816-5068

Comments Due: 5 p.m. ET 9/6/13

Docket Numbers: ER13-2170-000

Applicants: Southwest Power Pool, Inc.

Description: Southwest Power Pool, Inc. submits 2041R2 Kansas City Board of Public Utilities PTP Agreement to be effective 8/1/2013.

Filed Date: 8/16/13

Accession Number: 20130816-5070

Comments Due: 5 p.m. ET 9/6/13

Docket Numbers: ER13-2171-000

Applicants: Southwest Power Pool, Inc.

Description: Southwest Power Pool, Inc. submits 2462 Twin Eagle/Sunflower Meter Agent Agreement Cancellation to be effective 8/1/2013.

Filed Date: 8/16/13

Accession Number: 20130816-5071

Comments Due: 5 p.m. ET 9/6/13

Docket Numbers: ER13-2172-000

Applicants: Public Service Company of New Mexico

Description: Public Service Company of New Mexico submits Old Laguna Tap Construction Agreement to be effective 7/22/2013.

Filed Date: 8/16/13

Accession Number: 20130816-5072

Comments Due: 5 p.m. ET 9/6/13

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 16, 2013.
Nathaniel J. Davis, Sr.,
Deputy Secretary.

[FR Doc. 2013-20581 Filed 8-22-13; 8:45 am]

BILLING CODE 6717-01-P